DEPARTMENT OF THE TREASURY

Submission for OMB Review; Comment Request

March 1, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 6, 2005 to be assured of consideration.

Departmental Offices/Executive Office for Assets Foreiture

OMB Number: 1505-0152.

Form Numbers: TD F 92-22.46.

Type of Review: Extension.

Title: Request for Transfer of Property Seized/Forfeited by a Treasury Agency.

Description: TD F 92-22.46 is necessary for the application for receipt of seized assets by Federal, State and Local Law Enforcement agencies.

Respondents: Federal Government, State, Local, or Tribal Government.

Estimated Number of Respondents: 5,000.

Estimated Burden Hours Per Respondent: 30 Minutes.

Frequency of Response: Other.

Estimated Total Reporting Burden: 2,500 hours.

Clearance Officer: Lois K. Holland, Departmental Offices, Room 2110, 1425 New York Avenue, NW., Washington, DC 20220, (202) 622-1563.

OMB Reviewer: Joseph F. Lackey, Jr., Office of Management and Budget, Room 10235, New Executive Office Building, Washington, DC 20503, (202) 395-7316.

Christopher L. Davis,
Treasury PRA Assistant.

[FR Doc. 05-4327 Filed 3-4-05; 8:45 am]

BILLING CODE 4811-16-P